COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List services to be furnished by nonprofit agencies employing persons who are blind or have other severe disabilities.

COMMENTS MUST BE RECEIVED ON OR BEFORE: May 28, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services are proposed for addition to Procurement List for production by the nonprofit agencies listed:

Services

Airfield Alert Support Services

Robert Gray Army Airfield, III Corps and Fort Hood Army Airfield, Fort Hood, Texas

NPA: Training, Rehabilitation & Development Institute, Inc., San Antonio, Texas

Dispatcher, Defense Supply Center—Richmond, Richmond, Virginia

NPA: Richmond Area Association for Retarded Citizens Richmond, Virginia

Family Housing Maintenance, Rotterdam Housing Area, Watervliet, New York

NPA: Uncle Sam's House, Inc., Schenectady, New York

Janitorial/Custodial, Buckley Air Force Base, Colorado

NPA: North Metro Community Services for Developmentally Disabled, Westminister, Colorado

Janitorial/Custodial, Portsmouth Naval Hospital, Administrative Buildings, Portsmouth, Virginia

NPA: Portco, Inc., Portsmouth, Virginia

Janitorial/Grounds Maintenance, Glenn M. Anderson Federal Building, Long Beach, California

NPA: California Elwyn, Inc., Fountain Valley, California

Switchboard Operation

At the Following:

Air Mobility Command Locations, Travis Air Force Base, California

NPA: Solano Diversified Services, Vallejo, California

Dover Air Force Base, Delaware

NPA: Delaware Division for the Visually Impaired, New Castle, Delaware

Andrews Air Force Base, Maryland

NPA: Columbia Lighthouse for the Blind, Washington, DC

Scott Air Force Base, Illinois

NPA: Lighthouse for the Blind, St. Louis, Missouri

McConnell Air Force Base, Kansas

NPA: The Oklahoma League for the Blind, Oklahoma City, Oklahoma

McGuire Air Force Base, New Jersey

NPA: Bestwork Industries for the Blind, Inc., Runnemede, New Jersey

Pope Air Force Base, North Carolina

NPA: ServiceSource, Inc., Alexandria, Virginia

Grand Forks Air Force Base, North Dakota

NPA: Minot Vocational Adjustment Workshop, Inc., Minot, North Dakota

Charleston Air Force Base, South Carolina

NPA: Winston-Salem Industries for the Blind, Winston-Salem, North Carolina

McChord Air Force Base, Washington

NPA: The Lighthouse for the Blind, Inc., Seattle, Washington

Fairchild Air Force Base, Washington

NPA: The ARC of Spokane, Spokane, Washington

Rita L. Wells,
Deputy Executive Director.

[FR Doc. 01-10535 Filed 4-26-01; 8:45 am]

BILLING CODE 6353-01-P